Title 3—

The President

Proclamation 9215 of December 3, 2014

National Impaired Driving Prevention Month, 2014

By the President of the United States of America

A Proclamation

All Americans deserve to live long and full lives, and every child should have the chance to seize his or her future. But throughout our Nation, too many lives are tragically cut short in traffic crashes involving drunk, drugged, or distracted driving. Impaired driving not only puts the driver at risk—it threatens the lives of passengers and all others who share the road, and every year it causes the deaths of thousands of loved ones. This month, and especially during the holiday season, we dedicate ourselves to driving safely and responsibly, and to promoting these behaviors among our family and friends.

Alcohol and drugs can impair perception, judgment, motor skills, and memory—the skills critical for safe and responsible driving. And as mobile technology becomes ubiquitous, the distractions of texting and cell phone use continue to pose grave dangers on our roadways. Deaths caused by impaired driving are preventable and unacceptable, and my Administration is taking action to reduce and eliminate them. We continue to support the law enforcement officers who work to keep us safe and decrease impaired driving. To help save lives, States and local communities across our Nation will participate in the national Drive Sober or Get Pulled Over campaign from December 12 to January 1, reminding all Americans of their important responsibility.

My Administration is striving to increase awareness of the dangers and devastating consequences of impaired driving in all its forms, especially the growing, but often overlooked, problem of drugged driving. Illegal drugs, as well as prescription and over-the-counter medications, can be just as deadly on the road as alcohol, and preventing drugged driving is a public health imperative. As part of our 2014 National Drug Control Strategy, we are working to support the data collection that underlies evidence-based policy making, strengthening the protections that keep drugged drivers off the road, and helping bolster law enforcement officials' ability to identify drug-impaired drivers.

Reducing impaired driving and keeping our roadways safe is everyone's responsibility. Parents and other caring adults can play an important role in educating young Americans about the dangers of impaired driving; adults can model good practices while driving and can help new drivers develop safe habits. This holiday season, all Americans can drive responsibly and encourage their loved ones to do the same, including by designating a sober driver or making alternative transportation arrangements. For more information, please visit www.NHTSA.gov/DriveSober, www.WhiteHouse.gov/ONDCP/DruggedDriving, and www.Distraction.gov.

During National Impaired Driving Prevention Month, let us resolve to do our part to keep our streets and highways safe. Together, our actions can save lives.

NOW, THEREFORE, I, BARACK OBAMA, President of the United States of America, by virtue of the authority vested in me by the Constitution and the laws of the United States, do hereby proclaim December 2014 as National Impaired Driving Prevention Month. I urge all Americans to make responsible decisions and take appropriate measures to prevent impaired driving.

IN WITNESS WHEREOF, I have hereunto set my hand this twenty-eighth day of November, in the year of our Lord two thousand fourteen, and of the Independence of the United States of America the two hundred and thirty-ninth.

[FR Doc. 2014-28554

Filed 12-2-14; 11:15 am]

Billing code 3295-F5